DEPARTMENT OF AGRICULTURE

Cooperative State Research, Education, and Extension Service

Notice of Intent To Revise and Request an Extension of a Currently Approved Information Collection

AGENCY: Cooperative State Research, Education, and Extension Service, USDA.

ACTION: Notice and request for comments.

SUMMARY: In accordance with the Paperwork Reduction Act of 1995 and Office of Management and Budget (OMB) implementing regulations, this notice announces the Cooperative State Research, Education, and Extension Service's (CSREES) intention to revise and extend a currently approved information collection, Form CSREES-667 “Proposal Cover Sheet,” and Form CSREES-668, “Project Summary.”

DATES: Comments on this notice must be received on or before July 16, 2001 to be assured of consideration.

ADDRESSES: Address all comments regarding this notice to Sally J. Rockey, Deputy Administrator, Competitive Research Grants and Awards Management, CSREES, USDA, STOP 2240, 1400 Independence Avenue, SW., Washington, DC 20250-2240. E-mail: OEP@reeusda.gov.

FOR FURTHER INFORMATION CONTACT: Sally J. Rockey, (202) 401-1761.

SUPPLEMENTARY INFORMATION: Title: Grant Application Forms for the Small Business Innovation Research Grants Program.

OMB Number: 0524-0025.

Expiration Date of Approval: July 31, 2001.

Type of Request: Intent to revise and extend a currently approved information collection for three years.

Abstract: In 1982, the Small Business Innovation Research (SBIR) Program was authorized by Pub. L. 97-219, and in 1992 reauthorized through October 1, 2000, by Pub. L. 102-564. In 2000, the SBIR program was reauthorized through September 30, 2008, by Pub. L. 106-554. This legislation requires each Federal agency with a research and research and development budget in excess of $100 million to establish an SBIR program. The objectives of the SBIR Program are to stimulate technological innovation in the private sector, strengthen the role of small businesses in meeting Federal research and development needs, increase private sector commercialization of innovations derived from USDA-supported research and development efforts, and foster and encourage participation by women-owned and socially and economically disadvantaged small business firms in technological innovation. The Program is carried out in three separate phases. The purpose of Phase I is to determine the scientific or technical feasibility of ideas; Phase II is the principal research or research and development effort; and Phase III is to stimulate technological innovation and the national return on investment from research through the pursuit of commercial objectives resulting from work carried out in Phases I and II.

USDA conducts its SBIR program through the use of grants awards and these grants are administered by the Agreements and Special Projects Branch and the Grants Management Branch, Office of Extramural Programs, Competitive Research Grants and Awards Management, CSREES. Each year, USDA issues an SBIR program solicitation requesting Phase I proposals. These proposals are evaluated by peer review panels and awarded on a competitive basis. The SBIR Program Solicitation requests that applicants submit proposals following the format outlined in the Small Business Administration (SBA) Policy Directive. This simplified and standardized proposal format is used by all of the Federal agencies participating in the SBIR Program in order to reduce the application burden of the small business firms that wish to apply to more than one agency.

Before awards can be made, certain information is required from applicants as part of an overall proposal package. In addition to project summaries, descriptions of the research or teaching efforts, literature reviews, curricula vitae of principal investigators, and other, relevant technical aspects of the proposed project, supporting documentation of an administrative and budgetary nature also must be provided. Because of the nature of the competitive, peer-reviewed process, it is important that information from applicants be available in a standardized format to ensure equitable treatment.

This program also uses forms approved in the OMB-approved collection of information package 0524-0039. These forms include Form CSREES-2004, “Budget;” Form CSREES-2006, “National Environmental Policy Act Exclusions Form;” and Form CSREES-2008, “Assurance Statement(s)—For Research Projects.”

Forms CSREES-667, “Phase I and Phase II Proposal Cover Sheet;” and CSREES-668, “Phase I and Phase II Project Summary” are used to obtain USDA recordkeeping data, required certifications, and information used to respond to inquiries from Congress, other Government agencies, and the grantee community concerning grant projects supported by the USDA SBIR Program.

The following information has been collected and will continue to be collected:

Forms CSREES-667— Identification: designates the research topic area under which a proposal is submitted for consideration; USDA recordkeeping data: provides names and addresses of principal investigators and authorized agents of small business firms; and Certifications: Provides required certifications; for example, the applicant qualifies as a small business for purposes of the SBIR Program; the applicant qualifies as a minority and disadvantaged and/or women-owned small business.

Form CSREES-668—Project summary: Provides a Technical Abstract used when releasing information about grant projects supported and keywords to identify the technology/research thrust/commercial application of the projects.

Estimate of Burden: Public reporting burden for this collection of information is estimated to average 5.15 hours per response.

Respondents: Businesses or other for-profits.

Estimated Number of Responses Per Form: 480 for Form CSREES-667 and 480 for Form CSREES-668.

Estimated Number of Responses Per Respondent: 1.

Estimated Total Annual Burden on Respondents: 2,472 hours, broken down by: 672 hours for Form CSREES-667 (1.4 hours per 480 respondents) and 1,800 hours for Form CSREES-668 (3.75 hours per 480 respondents).

Copies of this information collection can be obtained from Duane Alphs, Policy and Program Liaison Staff, CSREES, (202) 401-3319. E-mail: OEP@reeusda.gov.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

Comments also may be submitted directly to OMB and should be addressed to: Desk Officer for Agriculture, Office of Information and Regulatory Affairs, Office of Management and Budget, Washington, DC 20502.

All responses to this notice will be summarized and included in the request for OMB approval. All comments also will become a matter of public record.

Done at Washington, DC, this 2d day of May, 2001.
Colien Hefferan,
Administrator, Cooperative State Research, Education, and Extension Service.

[FR Doc. 01-11817 Filed 5-9-01; 8:45 am]

BILLING CODE 3410-22-P